DEPARTMENT OF COMMERCE

National Oceanic and Atmospheric Administration

[RTID 0648-XA488]

Pacific Fishery Management Council; Public Meeting

AGENCY: National Marine Fisheries Service (NMFS), National Oceanic and Atmospheric Administration (NOAA), Commerce.

ACTION: Notice of public meeting (online).

SUMMARY: The Pacific Fishery Management Council (Pacific Council, Council) will hold an online meeting of its Coastal Pelagic Species Management Team (CPSMT) to discuss coastal pelagic species (CPS) stock assessment priorities and other CPS-related topics. This meeting is open to the public.

DATES: The online meeting will be held Tuesday, September 29, 2020, 1 p.m. to 5 p.m. Pacific Daylight Time, or until business for the day has been completed.

ADDRESSES: The meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The CPSMT will be developing recommendations regarding CPS stock assessments to be conducted in 2022 and 2023 as guided by the Council's stock assessment prioritization process. The Council is scheduled to establish stock assessment priorities for 2022 and 2023 at its November 2020 meeting. The CPSMT may discuss a proposed CPS Fishery Management Plan amendment to address stock categories, as well as topics on the Council's November 2020 agenda, including the CPS methodology review process and workload planning.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least ten days prior to the meeting date.

Authority: 16 U.S.C. 1801 et seq.

Dated: September 9, 2020.
Tracey L. Thompson,
Acting Deputy Director, Office of Sustainable Fisheries, National Marine Fisheries Service.

[FR Doc. 2020-20272 Filed 9-14-20; 8:45 am]

BILLING CODE 3510-22-P